DEPARTMENT OF HEALTH AND HUMAN SERVICES

Centers for Disease Control and Prevention

[Program Announcement 04003]

Health Promotion and Disease Prevention Research Centers; Notice of Availability of Funds; Amendment

A notice announcing the availability of fiscal year 2004 funds for Cooperative Agreements to support Health Promotion and Disease Prevention Research Centers was published in the Federal Register on March 27, 2003, Volume 68, Number 59, pages 14984-14990. A fully amended version of the original program announcement is posted on the Centers for Disease Control and Prevention (CDC) Web site at: http://www.cdc.gov. Click on “Funding” then “Grants and Cooperative Agreements.”

The notice is amended as follows:

Page 14984, third column, “Application Deadline: June 16, 2003” should be removed and replaced with: “Application Deadline: March 1, 2004.”

Page 14985, first column, Section C. Eligible Applicants, subsection First Round of Competition, delete this subsection. Second column, subsection, Second Round of Competition, delete the subsection header and the first paragraph.

Page 14985, second column, Section D. Funding, subsection Availability of Funds, line 1, delete the sentence, “Approximately $14,000,000 will be available in FY 2004 to fund approximately 18 awards.” Replace it with “Approximately $9,000,000 is available in FY 2004 to fund approximately 12 awards.”

Page 14985, second column, Section D. Funding, insert a second paragraph with heading and text as follows: Optional Funding In addition, special interest projects related to chronic disease prevention and health promotion will be announced and funded in fiscal year 2004. Award of these projects, which are funded by centers, institutes, or offices within CDC or by other federal agencies, can be made to Prevention Research Centers only. Thus, applicants selected to be funded as a Prevention Research Center under this announcement will be eligible to compete for this optional funding of new special interest projects whenever they are announced by CDC. However, all applicants to this announcement can simultaneously apply for special interest projects. Those applicants not selected as Prevention Research Centers will then automatically be excluded from the competition for special interest projects. Specific guidance related to fiscal year 2004 special interest projects will be published in a separate Federal Register announcement in March, 2004.

Page 14985, second column, Section D. Funding, insert the following heading “Continuation of Funding” before the paragraph that begins “Continuation awards * * *”

Page 14985, third column, Section D. Funding, subsection Funding Preferences, delete the paragraph and replace it with, “Funding preference will be based on selecting applicants in order to maintain an equitable geographic distribution of centers and for the distribution of centers among areas containing a wide range of population groups.”

Page 14985, third column, Section E. Program Requirements, subsection Recipient Activities, paragraph a., delete the word “center-level” and replace it with, “center”.

Page 14985, third column, Section E. Program Requirements, subsection Recipient Activities, paragraph b., delete the paragraph and replace it with, “Evaluate the center based on the center's logic model, particularly focusing on the critical components of the center's logic model. Describe how the center's evaluation will contribute to the CDC's national program evaluation, including the core performance indicators. (See Appendix D for a list of the indicators.)”

Page 14986, second column, Section F. Content, subsection Applications, insert the following paragraph, “You are required to have a Dun and Bradstreet Data Universal Numbering System (DUNS) number to apply for a grant or cooperative agreement from the Federal government. Your DUNS number must be entered in item 11 of the face page of the PHS 398 application form. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm

Page 14986, third column, Section F. Content, subsection Evaluation, delete the first paragraph, and replace with, “An infrastructure of resources and personnel is required to support program evaluation at the center (see the glossary for a definition of program evaluation). Applicants should have the capacity to (1) establish a five-year evaluation plan; (2) conduct program evaluations; and (3) collaborate with national partners in the planning and implementation of national PRC Program evaluation strategies (see Appendix B for a description of Developing and Evaluation Framework: Insuring National Excellence (Project DEFINE).) To assure that applicants have this capacity, applicants should, at a minimum, address the following:”

Page 14986, third column, Section F. Content, subsection Evaluation, second paragraph (numbered “1.”) delete the first sentence, and replace with, “1. Create a logic model for the center, specifying the center's health priorities and expected outcomes.”

Page 14986, third column, Section F. Content, subsection Evaluation, third paragraph (numbered “2.”) delete the paragraph, and replace with, “2. Document experiences in conducting program evaluations in the past five years. Describe how the center will continue or enhance its evaluation expertise as it relates to program evaluation.”

Page 14986, third column, Section F. Content, subsection Evaluation, last paragraph (numbered “3.”) delete the paragraph, and replace with, “3. Create and describe a five-year evaluation plan, focusing on the critical components of the center's logic model. The plan should include the goals of the evaluation and evaluation questions to be addressed. The plan should also describe how the center has collaborated or will collaborate with the center's community committee for the evaluation (see the glossary for additional information regarding the center community committee.)”

Page 14987, second column, Section F. Content, subsection Collaborations/Partnerships, second paragraph (numbered “3.”), delete sub-item (a), and replace it with, “(a) past, current, and proposed partners, as applicable to the center;”

Page 14987, second column, Section F. Content, subsection Research, fourth paragraph (numbered “3.”), delete the first sentence, and replace it with, “3. Describe the center's five-year research agenda, including the five-year goals.”

Page 14988, second column, Section F. Content, subsection Infrastructure, fifth paragraph (numbered “4.”), delete the first sentence, and replace it with, “4. Describe the center's proposed strategies or activities to enhance its core capacity over the five-year period.”

Page 14989, first column, Section G. Submission and Deadline, subsection Letter of Intent (LOI) Submission, delete the phrase “First Round of Competition.” Delete the date April 10, 2003, and replace with January 7, 2004. Subsection Submission Date, Time, and Address, delete the phrase “First Round of Competition.” Delete the date June 16, 2003, and replace with March 1, 2004.

Page 14989, second column, Section H. Evaluation Criteria, subsection Application, sub-topic Evaluation, first paragraph (numbered “1.”), first sentence, delete the word “center-level” and replace it with “center”.

Page 14989, second column, Section H. Evaluation Criteria, subsection Application, sub-topic Evaluation, second paragraph (numbered “2.”), delete the paragraph and replace it with, “2. To what extent does the applicant sufficiently describe and justify how the components of the center's logic model relate to or differentiate from the national PRC Program conceptual framework?”

Page 14989, second column, Section H. Evaluation Criteria, subsection Application, sub-topic Evaluation, fourth paragraph (numbered “4.”), delete the paragraph and replace it with, “4. To what extent does the applicant adequately lay out a five-year evaluation plan, focused on the critical components of the center's logic model? To what extent does the plan include the goals and objectives for the evaluation and describe past or future collaboration with the center's community committee in the evaluation?

Page 14989, third column, Section H. Evaluation Criteria, subsection Application, sub-topic Collaborations/Partnerships, fourth paragraph (numbered “4.”), delete the paragraph and replace it with, “4. To what extent does the applicant adequately describe their partnerships (past, current, and proposed, as applicable), the roles of these partners, and the methods for establishing and maintaining the partnerships?”

Page 14989, third column, Section H. Evaluation Criteria, subsection Application, sub-topic Research, third paragraph (numbered “3.”), second line, delete the words “and objectives”.

Page 14990, second column, Section H. Evaluation Criteria, subsection Application, sub-topic Training/Education, second paragraph (numbered “2.”), insert the words, “goals and objectives,” between the words “including” and “how”.

Page 14990, third column, Section J. Where to Obtain Additional Information, after the paragraph that starts, “For program technical assistance * * *” insert the following:

A forum for questions and answers between CDC and applicants during the application process will be available as a LISTSERV, a system that allows for creating, managing, and controlling mailing lists on a network or the Internet. The mailing list, which will be titled PREV-CENTERS allows for questions and answers via electronic mail, which are simultaneously sent to everyone on the list and delivered in seconds or, occasionally, minutes. PREV-CENTERS is a closed list available only to persons and entities associated with the application process for Announcement Number 04003.

To subscribe to the listserv, the applicant must send an E-mail message to LISTSERV@LISTSERV.CDC.GOV with the following command in the body of the message: SUBSCRIBE PREV-CENTERS. There is no need to write a “Subject” or anything else in the message. The subscriber will then receive a welcome E-mail message and instructions on how to use commands for the LISTSERV. After the applicant is subscribed, questions to the PREV-CENTERS LISTSERV may be sent to the following E-mail address: PREV-CENTERS@listserv.cdc.gov. Do not post confidential information on the listSERV because every member of the mailing list will receive the message and the reply. All confidential matters should be conducted through direct E-mail, paper correspondence, or telephone.

Please use the PREV-CENTERS LISTSERV exclusively for posting questions about the application process for Announcement Number 04003. Questions will be accepted until the application deadline. All subscribers to the list will be deleted after the application due date. Furthermore, a list of previously generated questions and answers regarding this Program Announcement can be found at the following Web site: http://apps.nccd.cdc.gov/RFAQA/rfaqa.asp

In addition, a pre-applications workshop will be held in Atlanta for all eligible applicants. The workshop will provide information on CDC's Prevention Research Centers Program and the contents of this Program Announcement. Specific information about the workshop can be found on the CDC Prevention Research Centers Web site: http://www.cdc.gov/prc.

Dated: November 20, 2003.
Edward Schultz,
Acting Director, Procurement and Grants Office, Centers for Disease Control and Prevention.

[FR Doc. 03-29525 Filed 11-25-03; 8:45 am]

BILLING CODE 4163-18-P